DEPARTMENT OF THE INTERIOR

Fish and Wildlife Service

[FWS-R9-MB-2011-N016; 91100-3740-GRNT 7C]

Meeting Announcements: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). This meeting is open to the public. The Advisory Group for the Neotropical Migratory Bird Conservation Act (NMBCA) grants program (Advisory Group) will also meet. This meeting is also open to the public, and interested persons may present oral or written statements.

DATES: Council: Meeting is March 6, 2012, 9:00 a.m. through 4 p.m. If you are interested in presenting information at this public meeting, contact the Council Coordinator no later than March 1, 2012.

Advisory Group: Meeting is March 7, 2012, 10:30 a.m. through 4 p.m. If you are interested in presenting information at this public meeting, contact the Council Coordinator no later than March 1, 2012.

ADDRESSES: The Council meeting will be held at 1150 Connecticut Avenue NW., Suite 600, Washington, DC 20036. The Advisory Group meeting will be held at the Department of the Interior, 1849 C Street NW., North Penthouse, Room 7000 A and B, Washington, DC 20240.

FOR FURTHER INFORMATION CONTACT: Michael Kreger, Acting Council Coordinator, by phone at (703) 358-2489; by email at dbhc@fws.gov; or by U.S. mail at U.S. Fish and Wildlife Service, 4401 N. Fairfax Drive, Mail Stop MBSP 4075, Arlington, VA 22203.

SUPPLEMENTARY INFORMATION:

Background

In accordance with NAWCA (Pub. L. 101-233, 103 Stat. 1968, December 13, 1989, as amended), the State-private-Federal Council meets to consider wetland acquisition, restoration, enhancement, and management projects for recommendation to, and final funding approval by, the Commission. Project proposal due dates, application instructions, and eligibility requirements are available on the NAWCA Web site at http://www.fws.gov/birdhabitat/Grants/NAWCA/Standard/US/Overview.shtm. Proposals require a minimum of 50 percent non-Federal matching funds. The Council will consider Canadian and U.S. small grant proposals at the meeting. The Commission will consider the Council's recommendations at its meeting tentatively scheduled for June 13, 2012.

The Advisory Group, named by the Secretary of the Interior under NMBCA (Pub. L. 106-247, 114 Stat. 593, July 20, 2000), will hold its meeting to discuss the strategic direction and management of the NMBCA program and provide advice to the Director of the Fish and Wildlife Service. If you are interested in presenting information at either of these public meetings, contact the Council Coordinator no later than the date under DATES.

Meetings

The Council will consider Canadian and U.S. Small grant proposals at the meeting announced in DATES. The Commission will consider the Council's recommendations at its meeting tentatively scheduled for June 6, 2012.

The Advisory Group will discuss the strategic direction and management of the NMBCA program at the meeting announced in DATES.

Public Input
If you wish to | You must contact the Council Coordinator (see FOR FURTHER INFORMATION CONTACT) no later than
Attend the Council meeting | March 1, 2012.
Attend the Advisory Group meeting | March 1, 2012.
Submit written information or questions before the Council meeting for consideration during the meeting | March 1, 2012.
Submit written information or questions before the Advisory Group meeting for consideration during the meeting | March 1, 2012.
Give an oral presentation during the Council meeting | March 1, 2012.
Give an oral presentation during the Advisory Group meeting | March 1, 2012.

Submitting Written Information or Questions

Interested members of the public may submit relevant information or questions for the Council and/or Advisory Group to consider during the public meetings. If you wish to submit a written statement, so that the information may be made available to the Council or Advisory Group for their consideration prior to this meeting, you must contact the Council Coordinator by the date above. Written statements must be supplied to the Council Coordinator in both of the following formats: One hard copy with original signature, and one electronic copy via email (acceptable file formats are Adobe Acrobat PDF, MS Word, MS PowerPoint, or rich text file).

Giving an Oral Presentation

Individuals or groups requesting to make an oral presentation at either the Council or Advisory Group meeting will be limited to 2 minutes per speaker, with no more than a total of 30 minutes for all speakers. Interested parties should contact the Council Coordinator by the date above, in writing (preferably via email; see FOR FURTHER INFORMATION CONTACT), to be placed on the public speaker list for either of these meetings. Nonregistered public speakers will not be considered during the Council or Advisory Group meetings. Registered speakers who wish to expand upon their oral statements, or those who had wished to speak but could not be accommodated on the agenda, are invited to submit written statements to the Council or Advisory Group within 30 days following the meeting.

Meeting Minutes

Summary minutes of the Council and the Advisory Group meetings will be maintained by the Council Coordinator at the address under FOR FURTHER INFORMATION CONTACT. Council meeting minutes will be posted at http://www.fws.gov/birdhabitat/Grants/NAWCA/CouncilAct.shtm#CouncilMeet within 30 days following the meeting. Personal copies may be purchased for the cost of duplication. Advisory Group meeting minutes will be posted at http://www.fws.gov/birdhabitat/Grants/NMBCA/AdGroupAct.shtm. Personal copies may be purchased for the cost of duplication.

Jerome Ford,
Assistant Director, Migratory Birds.

[FR Doc. 2012-2293 Filed 2-1-12; 8:45 am]

BILLING CODE 4310-55-P